DEPARTMENT OF HOMELAND SECURITY

Coast Guard

33 CFR Part 165

[Docket No. USCG-2018-0773]

Safety Zones; Fireworks Displays in the Fifth Coast Guard District

AGENCY: Coast Guard, DHS.

ACTION: Notice of enforcement of regulation.

SUMMARY: The Coast Guard will enforce a safety zone for a fireworks display taking place over the Patapsco River, Baltimore, MD, on September 15, 2018. This action is necessary to ensure safety of life on navigable waterways during the fireworks display. Our regulation for recurring safety zones for fireworks displays within the Fifth Coast Guard District identifies the regulated area for this fireworks display. During the enforcement period, vessels may not enter, remain in, or transit through the safety zone unless authorized by the Captain of the Port Maryland-National Capital Region or designated representative on scene.

DATES: The regulations in 33 CFR 165.506 will be enforced for the location listed at (b)(4) in the table to § 165.506 from 7:30 p.m. through 9:30 p.m. on September 15, 2018.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: The Coast Guard will enforce the safety zone for entry (b)(4) in the table to § 165.506 for the Defenders' Day Commemoration Fireworks display from 7:30 p.m. through 9:30 p.m. on September 15, 2018. This action is being taken to provide for the safety of life on navigable waterways during the fireworks display. Our regulation for recurring safety zones for fireworks displays within the Fifth Coast Guard District, § 165.506, specifies the location of the regulated area for this safety zone within a 300-yard radius of the fireworks barge in approximate position 39°15′55″ N, 076°34′35″ W, adjacent to the East Channel of Northwest Harbor. As specified in § 165.506(d), during the enforcement period, no vessel may enter, remain in, or transit through the safety zone without approval from the Captain of the Port Sector Maryland-National Capital Region (COTP) or designated Coast Guard patrol personnel on scene. Designated Coast Guard patrol personnel are comprised of commissioned, warrant, and petty officers of the U.S. Coast Guard. The Coast Guard may be assisted by other federal, state, or local law enforcement agencies in the enforcement of the safety zone. This year the fireworks display is happening on the third Saturday in September (September 15, 2018) instead of the second Saturday in September (September 8, 2018) as published in the table to 33 CFR 165.506, section (b), row 4. The enforcement period is also being changed for this year's event. This year, the safety zone will be enforced from 7:30 p.m. through 9:30 p.m. on September 15, 2018.

This notice of enforcement is issued under authority of 33 CFR 165.506(d) and 5 U.S.C. 552(a). In addition to this notice of enforcement published in the Federal Register, the Coast Guard will provide notification of this enforcement period via the Local Notice to Mariners and marine information broadcasts.

Dated: August 24, 2018.
Joseph B. Loring,
Captain, U.S. Coast Guard, Captain of the Port Maryland-National Capital Region.

[FR Doc. 2018-18824 Filed 8-29-18; 8:45 am]

BILLING CODE 9110-04-P